ENVIRONMENTAL PROTECTION AGENCY

[EPA-HQ-OPP-2009-0135; FRL-8424-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by January 19, 2010 or August 21, 2009 for registrations for which the registrant requested a waiver of the 180-day comment period, orders will be issued canceling these registrations. The Agency will consider withdrawal requests postmarked no later than January 19, 2010 or August 21, 2009, whichever is applicable. Comments must be received on or before January 19, 2010 or August 21, 2009, for those registrations where the 180-day comment period has been waived.

ADDRESSES: Submit your comments and your withdrawal request, identified by docket identification (ID) number EPA-HQ-OPP-2009-0135, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention: John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2009-0135. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resource Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although, this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 113 pesticide products registered under section 3 or 24(c) of FIFRA. These registrations are listed in sequence by registration number (or company number and 24(c) number) in Table 1 of this unit:

Table 1.—Registrations With Pending Requests for Cancellation
Registration no. | Product Name | Chemical Name
000100 CA-98-0021 | Zephyr 0.15 EC | Abamectin
000239-02651 | Bug-Geta Snail & Slug Pellets 3 | Metaldehyde
000264-00825 | Proline 480 Sc Fungicide | Prothioconazole
000270-00350 | Adams Animal Repellent Concentrate | Piperonyl butoxide
|  | Permethrin
|  | Pyrethrins
|  | 2,5-Pyridinedicarboxylic acid, dipropyl ester
|  | MGK 264
000279-03326 | Authority MTZ 45df Herbicide | Sulfentrazone
|  | Metribuzin
000352-00606 | Dupont Staple Plus Herbicide | Pyrithiobac
|  | Glyphosate-isopropylammonium
000352-00620 | Dupont Landmark 11 MP | Chlorsulfuron
|  | Sulfometuron
000352-00621 | Dupont Landmark MP | Chlorsulfuron
|  | Sulfometuron
000352-00647 | Dupont Landmark II Xp Herbicide | Chlorsulfuron
|  | Sulfometuron
000352-00655 | Manex | Maneb
000352 ME-94-0008 | Manex | Maneb
000352 OK-05-000 | Dupont Finesse Grass & Broadleaf (mp) Herbicide | Chlorsulfuron
|  | Flucarbazone-sodium
000352 TX-04-0028 | Dupont Finesse Grass & Broadleaf (mp) Herbicide | Flucarbazone-sodium
|  | Chlorsulfuron
000524-00390 | Fallow Master Herbicide | Benzoic acid, 3,6-dichloro-2-methoxy-, compd with 2-propanamine (1:1)
|  | Glyphosate-isopropylammonium
000538-00028 | Turf Builder Plus 2 | Mecoprop-P
|  | 2-4,D
000538-00033 | Scotts Proturf 36-0-0 Fertilizer Plus Dicot Weed Control | Dicamba
|  | 2-4,D
000538-00179 | Scotts Turf Builder Plus 2 for Grass | 2-4,D
|  | Mecoprop-P
000538-00186 | Proturf Fertilizer Plus Dicot Weed Control III | 2-4,D
|  | Mecoprop-P
|  | Dicamba
000769-00568 | Stephenson Chemicals Fly Bait | Dichlorvos
000769-00625 | Vapona Em-2 | Dichlorvos
000769-00627 | Smcp Vapona 2 Solution | Dichlorvos
000769-00628 | SMCP Vapona Insecticide 50% Concentrated Solution | Mineral oil - includes paraffin oil from 063503
|  | Dichlorvos
000769-00629 | Smcp Vapona Insecticide 90% Concentrated Solution | Dichlorvos
000769-00632 | Smcp Vapona EM-4 | Dichlorvos
000769-00640 | Smcp Fly Killer Bait | Dichlorvos
000769-00643 | SMCP Slug and Snail Bait Pellets | Metaldehyde
000769-00644 | SMCP M/V Fog Solution | Dichlorvos
|  | Malathion
000769-00727 | SMCP Vapona Insecticide 50% Concentrate Solution | Dichlorvos
000769-00795 | Ddvp 50% Vapona Insecticide for Professional Pco Use | Dichlorvos
000769-00796 | Superior DDVP #1 Vapona Insecticide Concentrate | Dichlorvos
000769-00797 | Universal Quick-Tox Fog Spray | Piperonyl butoxide
|  | Pyrethrins
|  | Dichlorvos
000769-00798 | Superior Ddvp #2 Vapona Insecticide Emulsifiable Conc. | Dichlorvos
000769-00821 | Ul-5d 5% Vapona Insecticide | Dichlorvos
000769-00924 | Drop Dead Ddvp Insecticide Fogger | Dichlorvos
001020-00005 | Oakite Bactericide | Calcium hypochlorite
001663-00015 | Grant's Ant Control | Arsenic oxide (As2O3)
001663-00031 | Arsenic Trioxide Technical | Arsenic oxide (As2O3)
002217-00441 | Exit Lawn Weed Killer contains Dicamba | 2,4-D, dimethylamine salt
|  | Benzoic acid, 3,6-dichloro-2-methoxy-, compd with N-methylmethanamine (1:1)
002217-00672 | Gordon's Phenaban 801 | Benzoic acid, 3,6-dichloro-2-methoxy-, compd with N-methylmethanamine (1:1)
|  | 2,4-D, dimethylamine salt
002217-00673 | Gordon's Phenaban 1001 | 2,4-D, dimethylamine salt
|  | Benzoic acid, 3,6-dichloro-2-methoxy-, compd with N-methylmethanamine (1:1)
002217-00797 | EH 1143 Herbicide | MSMA (and salts)
|  | MCPA, dimethylamine salt
|  | Benzoic acid, 3,6-dichloro-2-methoxy-, compd with N-methylmethanamine (1:1)
|  | Propanoic acid, 2-(4-chloro-2-methylphenoxy)-, (R)-, compd. with N-methylmethanamine (1:1)
002686-00010 | Hydri-San No.468 | Phosphoric acid
|  | Dodecylbenzenesulfonic acid
003487-00026 | Eagles-14 Diphacinone Rat Bait | Diphacinone
004822-00025 | Raid Insect Spray Power Packed | Pyrethrins
|  | Piperonyl butoxide
|  | MGK 264
004822-00034 | Raid Flying Insect Killer | MGK 264
|  | Pyrethrins
|  | Piperonyl butoxide
004822-00445 | Raid Flea Killer Plus Cat Foam V | Pyrethrins
|  | Piperonyl butoxide
|  | MGK 264
004822-00459 | Whitmire Liquid Pet Spray | Piperonyl butoxide
|  | MGK 264
|  | Pyrethrins
004822-00464 | Whitmire Flea and Tick Spray No. 1 | Piperonyl butoxide
|  | MGK 264
|  | Pyrethrins
005481-00067 | Alco Ho No Mo Liquid | Cacodylic acid
|  | Cacodylic acid, sodium salt
005481-00227 | DSMA Liquid Plus Surfactant | DSMA
005481-00228 | MSMA 40 Plus Surfactant | MSMA (and salts)
005481-00229 | MSMA 60 Plus Surfactant | MSMA (and salts)
005481-00230 | MSMA 66 Concentrate | MSMA (and salts)
005481-00231 | MSMA 80 Concentrate | MSMA (and salts)
005481-00318 | Slugit | Metaldehyde
005905-00118 | Helena 3lb Chlorate Defoliant-Desiccant | Sodium chlorate
005905-00461 | 6 Lb. Sodium Chlorate Defoliant-Desiccant | Sodium chlorate
005905-00483 | Helena 3.5 Lb. Liquid Copper Concentrate | Basic copper sulfate
005905-00520 | Par F 70 Soluble Oil | Mineral oil - includes paraffin oil from 063503
005905-00524 | Copper-Z 6/2 Granular Algicide | Copper sulfate pentahydrate
005905-00546 | Sungro 455 Soluble Oil | Mineral oil - includes paraffin oil from 063503
005905-00547 | 435 Soluble Oil | Mineral oil - includes paraffin oil from 063503
005905 WA-98-0026 | Omni Supreme Spray Insecticide-Miticide Liquid | Mineral oil - includes paraffin oil from 063503
007401-00023 | Ferti-Lome Crabgrass and Dallis Grass Killer | MSMA (and salts)
007401-00166 | Hi-Yield 10% Carbaryl Garden Dust | Carbaryl
007401-00192 | Ferti-Lome Weed & Feed Special F/st.augustine, Bermuda | Simazine
007401-00246 | Hi-Yield Super Decimate+surfactant | MSMA (and salts)
007401-00303 | Hi-Yield (maneb) Lawn and Garden Fungicide | Maneb
007401-00366 | Ferti-Lome Improved Bermuda Grass Weeder | MSMA (and salts)
|  | Cacodylic acid, sodium salt
008867-00039 | Shed-A-Leaf 'l' | Sodium chlorate
010806-00106 | Contact Roach Baits | Propoxur
011885-00012 | Master Mix Blue Death-D Rat & Mouse Bait | Diphacinone
011885-00015 | Master Mix Blue Death-D Rat & Mouse Bait Hide-A-Pack | Diphacinone
012455-00068 | Contrac Mouse Bait Station | Bromadiolone
019713-00344 | Ddvp 7% Total Release Aerosol | Dichlorvos
033116-00003 | Lilly Miller Slug & Snail Spray | Metaldehyde
033657-00016 | Dinotefuran 20% Turf, Ornamental and Vegetable Trans. | Dinotefuran
034704-00401 | Clean Crop C-O-C-S Zinc 24-24 | Copper oxychloride sulfate
034704-00685 | Simazine 80w Herbicide | Simazine
042519-00004 | Cacodylate 3.25 | Cacodylic acid
|  | Cacodylic acid, sodium salt
042519-00008 | Sodium Cacodylate Solution | Cacodylic acid
|  | Cacodylic acid, sodium salt
042519-00010 | Leaf-All | Cacodylic acid, sodium salt
|  | Cacodylic acid
042750-00042 | Albaugh Dicamba Technical | Dicamba
053883-00114 | DGA 4 Herbicide | Benzoic acid, 3,6-dichloro-2-methoxy-, compd with 2-(2-aminoethoxy)ethanol (1:1)
053883-00143 | Dicamba-Zine | Atrazine
|  | Benzoic acid, 3,6-dichloro-2-methoxy-, potassium salt
055272-00015 | Basic Copper 50W | Basic copper sulfate
055272-00016 | Basic Copper 4l | Basic copper sulfate
060061-00038 | Woolsey Tradewinds Anti-Fouling Bottom Paint 708 Harbor | Cuprous oxide
|  | Copper hydroxide
060061-00039 | Woolsey Neptune Anti-Fouling 712 Royal Blue | Cupric oxide
|  | Copper hydroxide
060061-00040 | Woolsey Neptune Anti-Fouling 714 Royal Green | Copper hydroxide
|  | Cuprous oxide
061282 OR-05-0010 | Prozap Zinc Phosphide Pellets | Zinc phosphide (Zn3P2)
062719-00513 | Widematch* M | Clopyralid
|  | MCPA, 2-ethylhexyl ester
|  | Fluroxypyr 1-methylheptyl ester
062719 CA-94-0018 | Lorsban 4E-HF | Chlorpyrifos
062719 CA-94-0024 | Lorsban-4E | Chlorpyrifos
062719 CA-97-0007 | Lorsban-4E | Chlorpyrifos
062719 CA-98-0010 | Lorsban-4E | Chlorpyrifos
062719 CO-99-0009 | Lorsban-4e | Chlorpyrifos
062719 ID-01-0001 | Lorsban-4E | Chlorpyrifos
062719 ID-01-00041 | Lorsban-4E | Chlorpyrifos
062719 MS-94-0005 | Lorsban 4E-HF | Chlorpyrifos
062719 OR-00-0029 | Lorsban-4E | Chlorpyrifos
062719 WA-03-0038 | Dithane Df Rainshield | Mancozeb
066222 CO-04-0001 | Bumper 41.8 EC (propiconazole) Fungicide | Propiconazole
066222 ID-03-0013 | Bumper 41.8 EC (propiconazole) Fungicide | Propiconazole
066222 ID-03-0014 | Bumper 41.8 EC (propiconazole) Fungicide | Propiconazole
066222 KS-04-0001 | Bumper 41.8 EC (propiconazole) Fungicide | Propiconazole
066222 MN-03-0004 | Bumper 41.8 EC (propiconazole) Fungicide | Propiconazole
066222 ND-03-0004 | Bumper 41.8 EC (propiconazole) Fungicide | Propiconazole
066330 OR-00-0006 | Captan 50 Wettable Powder | Captan
067517-00065 | Bromethalin Liquid Concentrate 1.5% | Bromethalin
070506-00195 | Cuprofix Technical | Basic copper sulfate
070506-00196 | Cuprofix Disperss | Basic copper sulfate

A request to waive the 180-day comment period has been received for the following registrations:

000769-00568; 000769-00625; 000769-00627;000769-00628; 000769-00629; 000769; 00632; 000769-00640; 000769-00643; 000769-00644; 000769-00727; 000769 00795; 000769-00796; 000769-00797; 000769-00798; 000769-00821; 000769-00924; 001020-00005; 005481-00067; 005481-00227; 005481-00228; 005481-00229; 005481-00230; 005481-00231; 005905-00118; 005905-00461; 005905-00483; 005905-00520; 005905-00524; 005905-00546; 05905-00547; 007401-00023; 007401-00246; 007401-00303; 007401-00366; 007401-00166; 019713-00344; 033116-00003; 034704-00401; 042519-00004; 042519-00008; 042519-00010; 055272-00015; 055272-00016; 62719-00513; 070506-00195; 070506-00196; WA-98-0026

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company No. | Company Name and Address
000100 | Syngenta Crop Protection, Inc., Attn: Regulatory Affairs, PO Box 18300, Greensboro, NC 27419-8300.
000239 | The Scotts Co., d/b/a The Ortho Group, PO Box 190, Marysville, OH 43040.
000264 | Bayer Cropscience LP, 2 T.W. Alexander Drive, Research Triangle Park, NC 27709.
000270 | Farnam Companies, Inc., d/b/a Central Life Sciences, 301 W. Osborn Rd., Phoenix, AZ 85013.
000279 | FMC Corp. Agricultural Products Group, Attn: Michael C. Zucker, 1735 Market St, Rm 1978, Philadelphia, PA 19103.
000352 | E. I. Du Pont De Nemours & Co., Inc. (s300/419), Attn: Manager, US Registration, 1007 Market Street, Wilmington, DE 19898-0001.
000524 | Monsanto Co., Agent For: Monsanto Co., 1300 I Street, NW., Suite 450 E., Washington, DC 20005.
000538 | Scotts Co., The, 14111 Scottslawn Rd., Marysville, OH 43041.
000769 | Value Gardens Supply, LLC, d/b/a Value Garden Supply, PO Box 585, Saint Joseph, MO 64502.
001020 | Chemetall US, Inc., 675 Central Ave., New Providence, NJ 07974-0007.
001663 | Grant Laboratories Inc., 14688 Washington Ave., San Leandro, CA 94578.
002217 | PBI/Gordon Corp., PO Box 014090, Kansas City, MO 64101-0090.
002686 | Hydrite Chemical Co., 300 N. Patrick Blvd., Brookfield, WI 53045.
003487 | Bacon Products Co., Inc., d/b/a Bacon Products Corp., PO Box 22187, Chattanooga, TN 37422-2187.
004822 | S.C. Johnson & Son Inc., 1525 Howe Street, Racine, WI 53403.
005481 | Amvac Chemical Corp., d/b/a Amvac, 4695 Macarthur Ct., Suite 1250, Newport Beach, CA 92660-1706.
005905 | Helena Chemical Co., 7664 Moore Rd., Memphis, TN 38120.
007401 | Mandava Associates, LLC, Agent For: Voluntary Purchasing Groups, Inc., 6860 N. Dallas Pkwy., Suite 200, Plano, TX 75024.
008160 | D.B.K., Inc., 789 South Christensen Rd., Coolidge, AZ 85228.
008867 | Jimmy Sanders Inc., PO Box 1169, Cleveland, MS 38732.
010806 | Contact Industries, Div. of Safeguard Chemical Corp., 411 Wales Ave, Bronx, NY 10454.
011885 | ADM Alliance Nutrition, Inc., PO Box C1, Quincy, IL 62305.
012455 | Bell Laboratories, Inc., 3699 Kinsman Blvd., Madison, WI 53704.
019713 | Drexel Chemical Co., PO Box 13327, Memphis, TN 38113-0327.
033116 | Registrations By Design, Inc., Agent For: Central Garden & Pet d/b/a Lilly Miller, 118 1/2 E. Main St., Suite 1, Salem, VA 24153-3805.
033657 | Landis International, Inc., Agent For: Mitsui Chemicals, Inc., PO Box 5126, Valdosta, GA 31603-5126.
034704 | Loveland Products, Inc., Attn: Mark R. Trostle, PO Box 1286, Greeley, CO 80632-1286.
042519 | Luxembourg-Pamol, Inc., 5100 Poplar Ave., Suite 2700, Memphis, TN 38137.
042750 | Albaugh Inc., 1525 Ne 36th Street, Ankeny, IA 50021.
053883 | Control Solutions, Inc., 5903 Genoa-Red Bluff, Pasadena, TX 77507-1041.
055272 | Ensayo Consulting, Agent For: Ingenieria Industrial Sa De Cv, 2838 Ulster St., Denver, CO 80238.
060061 | Kop-Coat, Inc., 436 Seventh Ave., Pittsburgh, PA 15219.
061282 | Hacco, Inc., 110 Hopkins Drive, Randolph, WI 53956-1316.
062719 | Dow Agrosciences LLC, 9330 Zionsville Rd 308/2E, Indianapolis, IN 46268-1054.
066222 | Makhteshim-Agan of North America Inc., 4515 Falls of Neuse Rd, Suite 300, Raleigh, NC 27609.
066330 | Arysta Lifescience North America, LLC, 15401 Weston Parkway, Suite 150, Cary, NC 27513.
067517 | Virbbac AH, Inc., Agent For: PM Resources Inc., PO Box 162059, Fort Worth, TX 76161.
070506 | United Phosphorus, Inc., 630 Freedom Business Center, Suite 402, King Of Prussia, PA 19406.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before January 19, 2010. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: July 13, 2009.
Kathryn Bouvé,
Acting Director, Information Technology and Resources Management Division. Office of Pesticide Programs.

[FR Doc. E9-17315 Filed 7-21-09; 8:45 a.m.]

BILLING CODE 6560-50-S